DEPARTMENT OF JUSTICE

Drug Enforcement Administration

Manufacturer of Controlled Substances Notice of Application

Pursuant to § 1301.33(a) of Title 21 of the Code of Federal Regulations (CFR), this is notice that on January 24, 2000, Eli-Elsohly Laboratories, Inc., 5 Industrial Park Drive, Oxford, Mississippi 38655, made application by renewal to the Drug Enforcement Administration (DEA) for registration as a bulk manufacturer of the basic classes of controlled substances listed below:

Drug | Schedule
Tetrahydrocannabinols (7370) | I
Dihydromorphine (9145) | I
Amphetamine (1100) | II
Methamphetamine (1105) | II
Cocaine (9041) | II
Codeine (9050) | II
Dihydrocodeine (9120) | II
Oxycodone (9143) | II
Hydromorphone (9150) | II
Benzoylecqonine(9180) | II
Hydrocodone (9193) | II
Morphine (9300) | II

The firm plans to bulk manufacture non-deuterated controlled substances for use as analytical standards and deuterated controlled substances for ause as internal standards.

Any other such applicant and any person who is persently registered with DEA to manufacturer such substance may file comments or objections to the issance of the proposed registration.

Any such comments or objections may be addressed, in quintuplicate, to the Deputy Assistance Administrator, office of Diversion Control, Drug Enforcement Administration, United States Department of Justice, Washington, DC 20537, Attention: DEA Federal Register Representative (CCR), and must be filed no later than June 27, 2000.

Dated: April 18, 2000.
John H. King,
Deputy Assistant Administrator, Office of Division Control, Drug Enforcement Administration.

[FR Doc. 00-10667 Filed 4-27-00; 8:45 am]

BILLING CODE 4410-09-M